FEDERAL COMMUNICATIONS COMMISSION

[Report No. 2379]

Petitions for Reconsideration and Clarification of Action in Rulemaking Proceeding; Correction of Number of Petitions Filed

January 24, 2000.

Petitions for Reconsideration have been filed in the Commission's rulemaking proceedings listed in this Public Notice and published pursuant to 47 CFR Section 1.429(e). The full text of these documents are available for viewing and copying in Room CY-A257, 445 12th Street, SW, Washington, DC or may be purchased from the Commission's copy contractor, ITS, Inc. (202) 857-3800. Oppositions to these petitions must be filed by February 29, 2000. See Section 1.4(b)(1) of the Commission's rules (47 CFR 1.4(b)(1). Replies to an opposition must be filed within 10 days after the time for filing oppositions has expired.

Subject: Amendment of Part 95 of the Commission's Rules to Provide Flexibility in the 218-219 MHz Service

Number of Petitions Filed: 8

Federal Communications Commission.
Magalie Roman Salas,
Secretary.

[FR Doc. 00-2144 Filed 2-11-00; 8:45 am]

BILLING CODE 6712-01-M